DEPARTMENT OF THE INTERIOR

National Park Service

[NPS-WASO-NAGPRA-NPS0029319; PPWOCRADN0-PCU00RP14.R50000]

Notice of Intent To Repatriate Cultural Items: Abbe Museum, Bar Harbor, ME

AGENCY: National Park Service, Interior.

ACTION: Notice.

SUMMARY: The Abbe Museum, in consultation with the appropriate Indian Tribes or Native Hawaiian organizations, has determined that the cultural items listed in this notice meet the definition of unassociated funerary objects. Lineal descendants or representatives of any Indian Tribe or Native Hawaiian organization not identified in this notice that wish to claim these cultural items should submit a written request to the Abbe Museum. If no additional claimants come forward, transfer of control of the cultural items to the lineal descendants, Indian Tribes, or Native Hawaiian organizations stated in this notice may proceed.

DATES: Lineal descendants or representatives of any Indian Tribe or Native Hawaiian organization not identified in this notice that wish to claim these cultural items should submit a written request with information in support of the claim to the Abbe Museum at the address in this notice by February 3, 2020.

ADDRESSES: Jodi C. DeBruyne, Director of Collections & Research, Abbe Museum, P.O. Box 286, Bar Harbor, ME 04609-1717, telephone (207) 288-3519, email collections@abbemuseum.org.

SUPPLEMENTARY INFORMATION: Notice is here given in accordance with the Native American Graves Protection and Repatriation Act (NAGPRA), 25 U.S.C. 3005, of the intent to repatriate cultural items under the control of the Abbe Museum, Bar Harbor, ME, that meet the definition of unassociated funerary objects under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Items

Between 1900 and 2016, 937 unassociated funerary objects were removed from 96 known locations in ME. Locations include the Sawyer Farm site in Ashland in Aroostook County, Eagle Lake site in Eagle Lake in Aroostook County, Harpswell Neck site in Harpswell Neck in Cumberland County, Round Pond site in Bristol in Lincoln County, Waterford site in Waterford in Oxford County, Winterport site in Winterport in Waldo County, and Wells Beach site in Wells in York County. Locations in Hancock County include: Alley Island site in Alley Island, Duck Brook site in Bar Harbor, Shellheap near site in Bar Harbor, Woodbury Park site in Bar Harbor, Salisbury Cove site in Bar Harbor, Sheldrake Island site in Bar Harbor, Blue Hill site in Blue Hill, Red Paint Cemetery site in Blue Hill, Haskell Red Paint Cemetery site in Blue Hill, Parker's Point site in Blue Hill, Bridge's River site in Brooklin, Bucksport site in Bucksport, Molasses Pond site in Eastbrook, Old Red Paint site in Ellsworth, Union River site in Ellsworth, Deeck Place, Union River site in Ellsworth, Ellsworth Falls site in Ellsworth Falls, Smith Farm site in Ellsworth Falls, Wasp Island site in Ellsworth Falls, Burying River at the Burying Island site in Franklin, Butler's Point site in Franklin, Georges Pond site in Franklin, Frenchman Bay site in Frenchman Bay, Nubble Swans Island site in Frenchman Bay, Hog Island site in Frenchman Bay, Gouldsboro site in Gouldsboro, Tranquility Farm site in Gouldsboro, Jones Cove site in Gouldsboro, Taft Point site in Gouldsboro, Sullivan Falls site in Hancock, Isleford site in Islesford, Boynton site in Lamoine, Northeast Harbor site in Northeast Harbor, Mason Site/Cemetery at the Alamoosook Lake site in Orland, Emerson Site/Cemetery at the Alamoosook Lake site in Orland, Narramissic Valley site in Orland, Alamoosook Lake site in Orland, Hartford site in Orland, Johnson Cemetery site in Orland, Orland site in Orland, Red Paint Cemetery site in Orland, Soper's Field site in Orland, Orono Island site in Orono Island, Cooksey Road site in Seal Harbor, Somesville site in Somesville, Dpane's Point site in Sorrento, Ewing-Bragdon site in Sorrento, Hall site in Sorrento, Sorrento site in Sorrento, Gotts Island site in Sullivan, Surry site in Surry, Oak Point site in Trenton, and Ironbound Island site in Winter Harbor. Locations in Kennebec County include: Kennebec River site in Waterville and Lancaster Farm site in Winslow. Locations in Knox County include: Tarr Cemetery site in Union, Georges River Cemetery at the Georges River site in Warren, and the Stevens Cemetary site in Warren. Locations in Penobscot County include: Bangor site in Bangor, Fort Hill site in Bangor, Penobscot River site in Bangor, Kenduskeag River/Stream site in Bangor, Moorehead Cemetery at the Blackman Stream/Penobscot River site in Bradley, Penobscot River site in Bradley, Brewer Cemetery site in Brewer, East Hampden site in East Hampden, Penobscot River site in Eddington, Eddington Bend site in Eddington, Hampden site in Hampden, Piscataquis River site in Howland, Matanawcook River, Matanawcook Island site in Lincoln, Mattawamkeag site in Mattawamkeag, Milford site in Milford, Red Paint Cemetery at the Sunkhaze Stream site in Milford, Indian Island site in Old Town, Hathaway site in Passadumkeag, Penobscot River site in South Brewer, Penobscot River site in Searsport, South Lincoln site in South Lincoln, and Veazie site in Veazie. Locations in Piscataquis County include Katahdin Iron Works site in Brownville and Chase Carry, Munsungun Lake site in Northeast Piscataquis. Locations in Washington County include: Addison site in Addison, Sprague Fall site in Cherryfield, Narraguagus River site in Cherryfield, Machias site in Machias, Machias River site in Machias, Red Beach site in Red Beach, and the Wilson Farm site.

The 937 unassociated funerary objects are one bone awl, one birchbark container, one stone bird stone, one burial soil sample, one metal/copper bead, one stone crescent, one stone effigy, one hematite/ochre sample, one stone mallet, one mica sample, one woven cedar fragment, two stone chisels, two iron oxide concretions, three metal/copper fragments, three stone drills, three stone gorgets, three hematite samples, three stone pestles, three stone scrapers, three stone whetstones, four stone reflakes, five stone battered nodules, five grooved stones, five ground slate rubbing stones, six stone atlatls/bannerstones, six stone pebbles, seven pyrite samples, eight stone adzes/gouges, eight ground stones, eight lucky stones, 10 ground stone rods, 13 stone flakes, 14 ground slate, 15 stone or ceramic pipe/pipe stem fragments, 25 modified stones, 18 stone pendants, 19 stone hammerstone, 24 shells, 37 ocher samples (red and yellow), 42 stone ground slate points, 55 stone abrasives/abraders, 105 stone plummets, 122 stone bifaces, 129 stone gouges, and 211 stone adzes/celts.

Cultural affiliation between these unassociated funerary objects and the Aroostook Band of Micmacs (previously listed as the Aroostook Band of Micmac Indians); Houlton Band of Maliseet Indians; Passamaquoddy Tribe; and the Penobscot Nation (previously listed as the Penobscot Tribe of Maine), hereafter referred to as “The Tribes,” is based upon the identification of the above listed sites with the “Red Paint People,” who are the direct ancestors of the Wabanaki Peoples, to whom The Tribes belong. This lineage has been determined through multiple lines of evidence. First, the Wabanaki homeland extends throughout the United States and Canada in what is today known as Maine, New England, and the Canadian Maritimes and the Wabanaki have lived uninterrupted on this land for over 12,000 years. Second, the characteristic use of red ochre as a burial practice has continued throughout the generations to the present day. Third, artifact forms and decorations often found in “Red Paint” sites are consistent and similar to those found in Wabanaki sites. These include the inclusion of pristine condition tools, perforation, etched decoration, and the use of similar stone materials.

Determinations Made by the Abbe Museum

Officials of the Abbe Museum have determined that:

• Pursuant to 25 U.S.C. 3001(3)(B), the 937 cultural items described above are reasonably believed to have been placed with or near individual human remains at the time of death or later as part of the death rite or ceremony and are believed, by a preponderance of the evidence, to have been removed from a specific burial site of a Native American individual.

• Pursuant to 25 U.S.C. 3001(2), there is a relationship of shared group identity that can be reasonably traced between the unassociated funerary objects and The Tribes.

Additional Requestors and Disposition

Lineal descendants or representatives of any Indian Tribe or Native Hawaiian organization not identified in this notice that wish to claim these cultural items should submit a written request with information in support of the claim to Jodi C. DeBruyne, Director of Collections & Research, Abbe Museum, P.O. Box 286, Bar Harbor, ME 04609-1717, telephone (207) 288-3519, email collections@abbemuseum.org, by February 3, 2020. After that date, if no additional claimants have come forward, transfer of control of the unassociated funerary objects to The Tribes may proceed.

The Abbe Museum is responsible for notifying The Tribes that this notice has been published.

Dated: November 14, 2019.
Melanie O'Brien,
Manager, National NAGPRA Program.

[FR Doc. 2019-28377 Filed 1-2-20; 8:45 am]

BILLING CODE 4312-52-P